DEPARTMENT OF ENERGY

Federal Energy Regulatory Commission

Combined Notice of Filings #1

Take notice that the Commission received the following exempt wholesale generator filings:

Docket Numbers: EG24-257-000.

Applicants: HV Sun SFA Manager 1, LLC.

Description: HV Sun SFA Manager 1, LLC submits Notice of Self-Certification of Exempt Wholesale Generator Status.

Filed Date: 8/13/24.

Accession Number: 20240813-5092.

Comment Date: 5 p.m. ET 9/3/24.

Docket Numbers: EG24-258-000.

Applicants: MS Solar 7, LLC.

Description: MS Solar 7, LLC submits Notice of Self-Certification of Exempt Wholesale Generator Status.

Filed Date: 8/16/24.

Accession Number: 20240816-5050.

Comment Date: 5 p.m. ET 9/6/24.

Take notice that the Commission received the following electric rate filings:

Docket Numbers: ER24-2668-001.

Applicants: LS Power Grid California, LLC.

Description: Tariff Amendment: LS Power Grid California Errata Filing to be effective 10/1/2024.

Filed Date: 8/16/24.

Accession Number: 20240816-5232.

Comment Date: 5 p.m. ET 9/6/24.

Docket Numbers: ER24-2786-000.

Applicants: Southwest Power Pool, Inc.

Description: 205(d) Rate Filing: Submission of Revisions to the FRT of OGE to Incorp Changes Accepted in ER24-722 to be effective 1/1/2024.

Filed Date: 8/15/24.

Accession Number: 20240815-5185.

Comment Date: 5 p.m. ET 9/5/24.

Docket Numbers: ER24-2787-000.

Applicants: Agway Energy Services, LLC.

Description: Baseline eTariff Filing: Application for Market Based Rate to be effective 8/16/2024.

Filed Date: 8/15/24.

Accession Number: 20240815-5195.

Comment Date: 5 p.m. ET 9/5/24.

Docket Numbers: ER24-2788-000.

Applicants: Midcontinent Independent System Operator, Inc.

Description: 205(d) Rate Filing: 2024-08-16_SA 4325 ITC Midwest-Golden Stripe Solar Energy GIA (J1504) to be effective 8/6/2024.

Filed Date: 8/16/24.

Accession Number: 20240816-5052.

Comment Date: 5 p.m. ET 9/6/24.

Docket Numbers: ER24-2789-000.

Applicants: California Independent System Operator Corporation.

Description: 205(d) Rate Filing: 2024-08-16 Certificate of Concurrence—LGIA—Elisabeth Solar to be effective 6/18/2024.

Filed Date: 8/16/24.

Accession Number: 20240816-5119.

Comment Date: 5 p.m. ET 9/6/24.

Docket Numbers: ER24-2790-000.

Applicants: Alabama Power Company, Georgia Power Company, Mississippi Power Company.

Description: Tariff Amendment: Alabama Power Company submits tariff filing per 35.15: Pine Burr Solar 1 LGIA Termination Filing to be effective 8/16/2024.

Filed Date: 8/16/24.

Accession Number: 20240816-5127.

Comment Date: 5 p.m. ET 9/6/24.

Docket Numbers: ER24-2791-000.

Applicants: Breckinridge Energy Storage, LLC.

Description: Baseline eTariff Filing: Breckinridge Energy Storage, LLC Application for Market-Based Rate Authorization to be effective 10/16/2024.

Filed Date: 8/16/24.

Accession Number: 20240816-5157.

Comment Date: 5 p.m. ET 9/6/24.

Docket Numbers: ER24-2792-000.

Applicants: Oliver Wind IV, LLC.

Description: Baseline eTariff Filing: Oliver Wind IV, LLC Application for Market-Based Rate Authorization to be effective 10/16/2024.

Filed Date: 8/16/24.

Accession Number: 20240816-5162.

Comment Date: 5 p.m. ET 9/6/24.

Docket Numbers: ER24-2793-000.

Applicants: Ponderosa Wind II, LLC.

Description: Baseline eTariff Filing: Ponderosa Wind II, LLC Application for Market-Based Rate Authorization to be effective 10/16/2024.

Filed Date: 8/16/24.

Accession Number: 20240816-5166.

Comment Date: 5 p.m. ET 9/6/24.

Docket Numbers: ER24-2794-000.

Applicants: Minco II Energy Storage, LLC.

Description: Baseline eTariff Filing: Minco II Energy Storage, LLC Application for Market-Based Rate Authorization to be effective 10/16/2024.

Filed Date: 8/16/24.

Accession Number: 20240816-5177.

Comment Date: 5 p.m. ET 9/6/24.

Docket Numbers: ER24-2795-000.

Applicants: Nantucket Electric Company.

Description: Baseline eTariff Filing: 2024-08-16 Nantucket Electric Company's FERC Electric Tariff No. 1 to be effective 12/31/9998.

Filed Date: 8/16/24.

Accession Number: 20240816-5212.

Comment Date: 5 p.m. ET 9/6/24.

Docket Numbers: ER24-2796-000.

Applicants: Massachusetts Electric Company.

Description: 205(d) Rate Filing: 2024-08-16 Massachusetts Electric Company's FERC Electric Tariff No. 3 to be effective 12/31/9998.

Filed Date: 8/16/24.

Accession Number: 20240816-5222.

Comment Date: 5 p.m. ET 9/6/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 16, 2024.
Debbie-Anne A. Reese,
Acting Secretary.

[FR Doc. 2024-18890 Filed 8-22-24; 8:45 am]

BILLING CODE 6717-01-P